CONSUMER PRODUCT SAFETY COMMISSION

[Docket No. CPSC-2009-0015]

Proposed Extension of Approval of Information Collection; Comment Request—Testing and Recordkeeping Requirements Under the Standard for the Flammability (Open Flame) of Mattresses

AGENCY: Consumer Product Safety Commission.

ACTION: Notice.

SUMMARY: As required by the Paperwork Reduction Act of 1995 (44 U.S.C. chapter 35), the Consumer Product Safety Commission (CPSC or Commission) requests comments on a proposed 3-year extension of approval of information collection requirements in the Standard for the Flammability—Open Flame—of Mattresses Sets (Open-Flame standard), 16 CFR part 1633. The Commission has a separate flammability standard that addresses cigarette ignition of mattresses, 16 CFR part 1632. The Open-Flame standard is intended to reduce unreasonable risks of burn injuries and deaths from fires associated with mattresses, particularly those initially ignited by open-flame sources, such as lighters, candles, and matches. The Open-Flame standard prescribes a test to minimize or delay flashover when a mattress is ignited. The standard requires manufacturers to test specimens of each of their mattress prototypes before mattresses based on that prototype may be introduced into commerce. The Office of Management and Budget (OMB) previously approved the collection of information under control number 3041-0133. OMB's most recent extension of approval will expire on March 31, 2013. The Commission will consider all comments received in response to this notice before requesting an extension of approval of this collection of information from OMB.

DATES: The Office of the Secretary must receive comments not later than March 5, 2013.

ADDRESSES: You may submit comments, identified by Docket No. CPSC-2009-0015, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Estimated Burden

The standard requires detailed documentation of prototype identification and testing records, model and prototype specifications, inputs used, name and location of suppliers, and confirmation test records, if establishments choose to pool a prototype. This documentation is in addition to documentation already conducted by mattress manufacturers in their efforts to meet the cigarette standard under 16 CFR part 1632. CPSC staff estimates that there are 571 establishments producing conventional mattresses and 100 establishments producing nonconventional mattresses in the United States, for a total of 671 firms affected by this standard. CPSC staff estimates the recordkeeping requirements to take about 4 hours and 44 minutes per establishment, per qualified prototype. Although some larger manufacturers reportedly are producing mattresses based on more than 100 prototypes, most mattress manufacturers base their complying production on 15 to 20 prototypes.

Assuming that establishments qualify their production with an average of 20 different qualified prototypes, recordkeeping time is estimated to be 94.7 hours (4.73 hours × 20 prototypes) per establishment, per year. (However, pooling among establishments or using a prototype qualification for longer than 1 year will reduce this estimate). Accordingly, the annual recordkeeping time cost to all mattress producers is estimated at 63,521 hours (94.7 hours × 671 establishments). The hourly compensation for the time required for recordkeeping is $27.64 (U.S. Bureau of Labor Statistics, “Employer Costs for Employee Compensation,” June 2012, Table 9, total compensation for all sales and office workers in goods-producing, private industries: http://www.bls.gov/ncs). Total estimated costs for recordkeeping are approximately $1.7 million (63,521 hours × $27.64).

The estimated annual cost of information collection requirements to the federal government is approximately $717,954. This represents 50 full-time employee staff hours. Record review will be performed during compliance inspections conducted to follow up on consumer complaints and reports of injury that indicate possible violations of the regulations. This estimate uses an annual wage of $119,238 (the equivalent of a GS-14 Step 5 employee), with an additional 30.8 percent added for benefits (U.S. Bureau of Labor Statistics, “Employer Costs for Employee Compensation,” September 2012, Table 1, percentage of wages and salaries for all civilian management, professional, and related employees) for total annual compensation of $172,309 per full-time employee.

B. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: December 31, 2012.
Todd A. Stevenson,
Secretary, Consumer Product Safety Commission.

[FR Doc. 2012-31677 Filed 1-3-13; 8:45 am]

BILLING CODE 6355-01-P